DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 3, 2011. Address written comments to Statutory Import Programs Staff, Room 3720, U.S. Department of Commerce, Washington, DC 20230. Applications may be examined between 8:30 a.m. and 5 p.m. at the U.S. Department of Commerce in Room 3720.

Docket Number: 10-070. Applicant: Stanford University, 450 Serra Mall, Stanford, CA 94305. Instrument: Electron Microscope. Manufacturer: FEI Company, the Netherlands. Intended Use: The instrument will be used for a wide variety of research projects, including the study of graphene nanoribbons, carbon nanotube networks as transparent electrodes, and functionalized nanoparticles and nanotubes for medical applications. The instrument will offer much improved resolution, as well as enhanced capabilities in characterizing insulating materials. Justification for Duty-Free Entry: There are no instruments of the same general category manufactured in the United States. Application accepted by Commissioner of Customs: December 22, 2010.

Docket Number: 10-071. Applicant: Stanford University, 450 Serra Mall, Stanford, CA 94305. Instrument: Electron Microscope. Manufacturer: FEI Company, the Netherlands. Intended Use: The instrument will be used for a wide variety of research projects including the study of artificial atoms, nanomagnetic research, and advanced semiconductor devices. The device will be used to complement a high-resolution electron beam lithography system. Electron beam lithography is required for the creation of the fine electrode or etch patterns to define an artificial atom, for quantitative detection of local magnetic fields, and to fabricate semiconductor devices with extreme short channels. Justification for Duty-Free Entry: There are no instruments of the same general category manufactured in the United States. Application accepted by Commissioner of Customs: December 22, 2010.

Docket Number: 10-074. Applicant: Wake Forest University Health Sciences, Medical Center Blvd., Winston-Salem, NC 27157. Instrument: Electron Microscope. Manufacturer: FEI Company, Czech Republic. Intended Use: The instrument will be used for the examination of the fine structural details of diseased tissues, such as cancer, the structure of biological molecules, such as DNA and proteins, and the location of specifically labeled molecules inside these structures. The instrument is necessary to achieve sufficient resolution and detail for the research. Justification for Duty-Free Entry: There are no instruments of the same general category manufactured in the United States. Application accepted by Commissioner of Customs: December 23, 2010.

Docket Number: 10-075. Applicant: The Virginia Tech Carilion Research Institute, 2 Riverside Circle, Roanoke, VA 24016. Instrument: Electron Microscope. Manufacturer: FEI Company, Czech Republic. Intended Use: The instrument will be used for the examination of biological specimens including proteins, protein complexes and other cellular constituents. Justification for Duty-Free Entry: There are no instruments of the same general category manufactured in the United States. Application accepted by Commissioner of Customs: December 23, 2010.

Dated: January 7, 2011.
Gregory Campbell,
Director, IA Subsidies Enforcement Office.

[FR Doc. 2011-776 Filed 1-13-11; 8:45 am]

BILLING CODE 3510-DS-P